DEPARTMENT OF TRANSPORTATION

Federal Highway Administration

Notice of Final Federal Agency Actions on Proposed Highway in Nevada

AGENCY: Federal Highway Administration (FHWA), DOT.

ACTION: Notice of Limitation on Claims for Judicial Review of Actions by FHWA, United States Fish and Wildlife Service (USFWS), and Other Federal Agencies.

SUMMARY: This notice announces actions taken by the FHWA, USFWS, and other Federal agencies that are final within the meaning of 23 U.S.C. 139(l)(1). The actions relate to a proposed highway project, U.S. Highway 95 (US 95), from Washington Avenue to Kyle Canyon Road (State Route 157) for a distance of 13 miles, in Clark County in the State of Nevada. Those actions grant licenses, permits, and approvals for the project.

DATES: By this notice, the FHWA is advising the public of final agency actions subject to 23 U.S.C. 139(l)(1). A claim seeking judicial review of the Federal agency actions on the highway project will be barred unless the claim is filed on or before March 25, 2009. If the Federal law that authorizes judicial review of a claim provides a time period less than 180 days for filing such claim, then that shorter time period still applies.

FOR FURTHER INFORMATION CONTACT: For FHWA: Mr. Abdelmoez Abdalla, Environmental Program Manager, Federal Highway Administration, 705 North Plaza Street, Carson City, Nevada 89701-0602; telephone: (775) 687-1231; e-mail Abdelmoez.Abdalla@fhwa.dot.gov. The FHWA Nevada Division Office's regular business hours are 7:30 a.m. to 4 p.m. (Pacific Standard Time). For the Nevada Department of Transportation (NDOT): Mr. Steve M. Cooke, P.E., Chief, Environmental Services Division, Nevada Department of Transportation, 1263 South Stewart Street, Carson City, Nevada 89712; telephone: (775) 888-7013; e-mail: scooke@dot.state.nv.us. The NDOT office's regular business hours are 8 a.m. to 5 p.m. (Pacific Standard Time). For USFWS: Mr. Michael Burroughs, U.S. Fish and Wildlife Service, 4701 North Torrey Pines Drive, Las Vegas, Nevada 89130; telephone: (702) 515-5230; e-mail Michael_Burroughs@fws.gov. The U.S. Fish and Wildlife Service office's regular business hours are 7:30 a.m. to 4 p.m. (Pacific Standard Time).

SUPPLEMENTARY INFORMATION: Notice is hereby given that the FHWA, USFWS, and other Federal agencies have taken final agency actions subject to 23 U.S.C. 139(l)(1) by issuing licenses, permits, and approvals for the following highway project in Clark County in the State of Nevada. The proposed improvements to US 95, from Washington Avenue to Kyle Canyon Road (State Route 157), a distance of 13 miles, would consist of widening the roadway to include one high-occupancy vehicle (HOV) lane in each direction and six general purpose lanes (three in each direction) from Durango Drive to Kyle Canyon Road. Other project components would include new service interchanges at Horse Drive and Kyle Canyon Road, the system-to-system interchange between US 95 and the Bruce Woodbury Beltway (CC-215), and improvements to Cheyenne Avenue, Rancho Drive/Ann Road, and Durango Drive. The federal project reference number is SPF-095-2(043). The actions by the Federal agencies, and the laws under which actions were taken, are described in the Environmental Assessment (EA) for US 95 Northwest Washington Avenue to Kyle Canyon Road, FHWA-NV-EA 07.01. A Finding of No Significant Impact (FONSI) was issued on May 7, 2008. The EA, FONSI, and other project records are available by contacting the FHWA or the NDOT Environmental Services Division at the addresses provided above. USFWS also issued its biological opinion (File No. 84320-2008-F-0428) for the project's possible adverse effects on the desert tortoise (Gopherus agassizii) on August 22, 2008. The USFWS biological opinion is available by contacting the USFWS at the address provided above.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128]; Public Hearing [23 U.S.C. 128].

2. Air: Clean Air Act [42 U.S.C. 7401-7671(q)].

3. Noise: Procedures for Abatement of Highway Traffic Noise and Construction Noise [23 U.S.C. 109(h), 109(i); 42 U.S.C. 4331, 4332; sec. 339(b), Pub. L. 104-59, 109 Stat. 568, 605; 49 CFR 1.48(b)].

4. Historic and Cultural Resources: Section 106 of the National Historic Preservation Act of 1966, as amended [16 U.S.C. 470(f) et seq.].

5. Wildlife: Endangered Species Act [16 U.S.C. 1531-1544 and Section 1536]; Fish and Wildlife Coordination Act [16 U.S.C. 661-667(d)]; Migratory Bird Treaty Act [16 U.S.C. 703-712].

6. Social and Economic: Civil Rights Act of 1964 [42 U.S.C. 2000(d)-2000(d)(1)].

7. Executive Orders: E.O. 11990, Protection of Wetlands; E.O. 11988, Floodplain Management; E.O. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E. O. 13112, Invasive Species.

(Catalog of Federal Domestic Assistance Program Number 20.205, Highway Planning and Construction. The regulations implementing Executive Order 12372 regarding intergovernmental consultation on Federal programs and activities apply to this program.)

Authority: 23 U.S.C. 139(l)(1).

Issued on: September 16, 2008.
Susan Klekar,
Division Administrator, Carson City, Nevada.

[FR Doc. E8-22572 Filed 9-25-08; 8:45 am]

BILLING CODE 4910-22-P